DEPARTMENT OF TRANSPORTATION

Federal Railroad Administration

[Docket No. FRA-2025-0009]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 7, 2025.

ADDRESSES: Written comments and recommendations for the proposed ICR should be submitted on www.regulations.gov to the docket, Docket No. FRA-2025-0009. All comments received will be posted without change to the docket, including any personal information provided. Please refer to the assigned OMB control number (2130-0591) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: System for Telephonic Notification of Unsafe Conditions at Highway-Rail and Pathway Grade Crossings.

OMB Control Number: 2130-0591.

Abstract: FRA's regulations on emergency notification systems (ENS) for telephonic reporting of unsafe conditions at highway-rail and pathway grade crossings (subpart E of 49 CFR part 234) prescribe standards to ensure that the congressional mandate ¹ to require railroad carriers to establish and maintain a toll-free telephone service to report unsafe conditions at highway-rail and pathway grade crossings is carried out. This collection of information is used by railroads to investigate and respond to unsafe conditions and thereby reduce the risk of accidents/incidents and corresponding casualties and property damage at such crossings. Additionally, law enforcement authorities use the information to direct vehicular traffic or carry out other activities to maintain safety at the highway-rail or pathway grade crossing.

¹ Section 205(a) of the Rail Safety Improvement Act of 2008 (RSIA), Public Law 110-432, Div. A (Oct. 16, 2008), codified at 49 U.S.C. 20152.

In this 60-day notice, FRA made multiple adjustments that increased the previously approved burden hours from 13,649 to 22,385 hours and increased the number of responses from 163,996 to 186,102. These adjustments are summarized below:

• Under § 234.305, which contains requirements for railroads' response to credible reports of warning system malfunction at highway-rail grade crossings, FRA adjusted the burden estimates to reflect the number of responses and estimated average time because the number of closed crossings is no longer included.

• Section 234.305(a)(1), which contains requirements for railroads to contact law enforcement under paragraph (a)(2), was not included in previous submissions of this ICR. Accordingly, FRA adjusted the burden estimates to include the number of hours and estimated average time required to report a warning, which increased the burden by 35 hours.

• Under § 234.305(b) through (d), FRA made multiple burden adjustments to reflect the estimated annual responses more accurately from 607 railroads with open grade crossings. Specifically, a previous year analysis of the highway-rail grade crossing data indicated that approximately 90 percent of the 607 railroads responsible for ENS do not have maintenance responsibility. In addition, based on a previous extrapolation of a study/pilot program, FRA estimated an average of approximately 64,000 calls annually to the ENS concerning highway-rail grade crossings, and an average of 2,000 calls annually to the ENS concerning pathway crossings. Accordingly, FRA adjusted the paperwork requirements for remedial actions in response to reports of unsafe conditions at highway-rail and pathway grade crossings.

• Under § 234.306, which establishes procedures for multiple dispatching or maintaining railroads with respect to the same highway-rail or pathway grade crossing and appointment of the responsible railroad, FRA made burden estimate adjustments to accurately reflect that appointment discussions have no timeline or end date. Consequently, these appointment discussions would only need to take place when a new appointment is made, or an appointment is changed.

• Under § 234.311, which contains requirements for ENS sign placement and maintenance, FRA determined that the previous submission underestimated the annual responses for this paperwork requirement. Accordingly, FRA adjusted the burden estimates to accurately reflect the number of hours and estimated average time required for railroads to replace and repair ENS signs. FRA determined that there are approximately 200,000 highway-rail grade crossings, with two signs at each crossing, for an estimated total of 400,000 ENS signs. FRA estimates that approximately 10 percent of these signs (40,000) are being replaced annually, causing the burden estimate for this regulatory requirement to increase by 9,000 hours.

Type of Request: Extension without change (with changes in estimates) of a currently approved collection.

Affected Public: Businesses.

Form(s): N/A.

Respondent Universe: 607 railroads.

Frequency of Submission: On occasion.

Reporting Burden
CFR section (49 CFR part 234, subpart E) | Respondent universe | Total annual responses | Average time per response | Total annual burden hours | Wage rate | Total cost equivalent
|  | (A) | (B) | (C) = A * B | (D) ² | (E) = C * D
234.303 Emergency notification systems for telephonic reporting of unsafe conditions at highway-rail and pathway grade crossings.
—(a), (c), (d), (e) Reportable calls from the public of unsafe conditions at highway-rail grade crossings and pathway grade crossings | 607 railroads | 66,000 calls | 1 minute | 1,100 | $47.20 | $51,920
234.305 Remedial actions in response to reports of unsafe conditions at highway-rail and pathway grade crossings.
(a) General rule on response to credible report of warning system malfunction at a highway-rail grade crossing.
—(1) Dispatching responsibility and maintenance responsibility; dispatching railroad's prompt notification of malfunction to all trains authorized to operate through the highway-rail grade crossing | 546 railroads | 1,000 contacts | 1 minute | 16.67 | 89.13 | 1,485.80
—Contact law enforcement as required by subpart C of this part | 546 Railroads | 1,000 contacts | 1 minute | 16.67 | 89.13 | 1,485.80
—(2) Dispatching responsibility but not maintenance responsibility; dispatching railroad's prompt notification of malfunction to all trains authorized to operate through the highway-rail grade crossing | 61 railroads | 100 contacts | 1 minute | 1.67 | 80.38 | 133.97
—(2) Dispatching railroad prompt report of malfunction to the railroad that has maintenance responsibility | 61 railroads | 100 contacts | 1 minute | 1.67 | 89.13 | 148.85
—Contact law enforcement as required by subpart C of this part | 61 Railroads | 100 Contacts | 1 minute | 1.67 | 89.13 | 148.85
(b) General rule on response to public report of warning system malfunction at a highway-rail grade crossing.
—(1) Railroad has maintenance responsibility for warning system; prompt contact by railroad to all trains that are authorized to operate through the highway-rail grade crossing | 546 railroads | 1,000 contacts | 1 minute | 16.67 | 80.38 | 1,339.67
—Prompt notification to law enforcement agency with jurisdiction over the highway-rail grade crossing | 546 railroads | 1,000 contacts | 1 minute | 16.67 | 89.13 | 1,485.80
—(2) Railroad does not have maintenance responsibility for warning system; prompt contact to all trains that are authorized to operate through the highway-rail grade crossing | 61 railroads | 100 contacts | 1 minute | 1.67 | 89.13 | 148.85
—Contact law enforcement | 61 railroads | 100 contacts | 1 minute | 1.67 | 89.13 | 148.55
—Contact the maintaining railroad | 61 railroads | 100 contacts | 1 minute | 1.67 | 89.13 | 148.55
(c) General rule on response to public report of warning system failure at a pathway grade crossing.
—(1) Railroad has maintenance responsibility for warning system; prompt contact by railroad to all trains that are authorized to operate through pathway grade crossing | 546 railroads | 20 contacts | 1 minute | 0.33 | 89.13 | 29.41
—Contact law enforcement | 546 railroads | 20 contacts | 1 minute | 0.20 | 89.13 | 29.41
—(2) Railroad does not have maintenance responsibility for warning system; prompt contact by railroad to all trains that are authorized to operate through pathway grade crossing | 61 railroads | 2 contacts | 1 minute | 0.03 | 89.13 | 2.67
—Contact law enforcement | 61 railroads | 2 contacts | 1 minute | 0.03 | 89.13 | 2.67
—Contact maintaining railroad | 61 railroads | 2 contacts | 1 minute | 0.03 | 89.13 | 2.67
(d) General rule on response to report of a disabled vehicle or other obstruction blocking a railroad track at a highway-rail or pathway grade crossing.
—(1) Railroad has maintenance responsibility for the crossing; prompt contact by railroad to all trains that are authorized to operate through pathway grade crossing | 546 railroads | 7,500 contacts | 1 minute | 1.25 | 89.13 | 11,141.25
—Contact law enforcement | 546 railroads | 750 contacts | 1 minute | 12.50 | 89.13 | 1,114.13
—(2) Railroad does not have maintenance responsibility for crossing; prompt contact by railroad to all trains that are authorized to operate through pathway grade crossing | 61 railroads | 750 contacts | 1 minute | 12.50 | 80.38 | 1,114.13
—Contact law enforcement | 61 railroads | 750 contacts | 1 minute | 12.50 | 89.13 | 1,114.13
—Contact maintaining railroad | 61 railroads | 750 contacts | 1 minute | 12.50 | 89.13 | 1,114.13
—(e) Special rule on contacting a train that is not required to have communication equipment | 10 railroads | 2 contacts | 1 minute | 0.03 | 89.13 | 2.67
—(f) General rule on response to report of an obstruction of view at a highway-rail or pathway grade crossing | The estimated paperwork burden for this requirement is covered under § 234.305(a) through (d).
—(g) General rule on response to report of other unsafe condition at a highway-rail or pathway grade crossing | The estimated paperwork burden for this requirement is covered under § 234.305(a) through (d).
—(h)(1) Maintaining railroad's requirement to provide dispatching railroad sufficient contact information | 61 railroads | 12 contacts | 1 minute | 0.20 | 80.38 | 16.08
—(h)(2) Exceptions for use of a third-party telephone service and answering machine by a maintaining railroad | The estimated paperwork burden for this requirement is covered under § 234.307.
234.306 Multiple dispatching or maintaining railroads with respect to the same highway-rail or pathway grade crossing; appointment of responsible railroad.
—(a) Duty of multiple dispatching railroads to appoint a primary dispatching railroad for the crossing | 61 railroads | 15 appointment discussions | 1 hour | 15 | 89.13 | 1,336.95
—(b) Duty of multiple maintaining railroads to appoint a railroad responsible for the placement and maintenance of the ENS sign(s) | 61 railroads | 15 appointment discussions | 1 hour | 15 | 89.13 | 1,336.95
—(c) Duty of multiple maintaining railroads with respect to remedial action at the crossing | The estimated paperwork burden for this requirement is covered under § 234.305(a)(1), (b)(1), (c)(1), and (d)(1). The recordkeeping requirements are covered under § 234.313.
234.307 Use of third-party telephone service by dispatching and maintaining railroads.
—(b) General use of a third-party telephone service by a maintaining railroad | The estimated paperwork burden for this requirement is covered under § 234.307(d)(1).
—(c) Duties of third-party telephone service in contacting dispatching and maintaining railroads | The estimated paperwork burden for this requirement is covered under § 234.303 or § 234.305.
—(d)(1) Duties of railroad using third-party telephone service—Providing third-party telephone service with contact information | FRA anticipates zero submissions over the next three-year period.
—(d)(2) Written notice to FRA of intent to use third-party service | FRA anticipates zero submissions over the next three-year period.
—(d)(3) Duties of railroad using third-party telephone service—Informing FRA of any changes in use or discontinuance of third-party service | FRA anticipates zero submissions over the next three-year period.
—(e) Third-party telephone service and railroad responsibilities | The estimated paperwork burden for recordkeeping is covered under § 234.313.
234.309 ENS signs in general.
—(a) Provision of telephone number to maintaining railroad that is to be displayed on the ENS sign at the crossing | 61 railroads | 12 contacts | 10 minutes | 2.00 | 89.13 | 178.26
234.311 ENS sign placement and maintenance.
—(c) Repair or replacement of ENS sign | 546 railroads | 40,000 signs | 15 minutes | 10,000 | 69.79 | 69,790.00
234.313 Recordkeeping
—(a) through (d) Recordkeeping, including electronic recordkeeping under § 234.315 | 607 railroads | 66,000 records | 10 minutes | 11,000 | 89.13 | 980,430.00
Total ³ | 607 railroads | 187,202 responses | N/A | 22,385 hours | N/A | 1,755,460.17

Total Estimated Annual Responses: 187,202.

² For public respondents, FRA used an hourly rate of $47.20 per hour for the value of the public's time, which includes an overhead cost of 31.1 percent. FRA obtained this data from the U.S. Department of Labor, Bureau of Labor Statistics employer costs for employee compensation wages for December 2024. Additionally, for railroad respondents, the dollar equivalent cost is derived from the Surface Transportation Board's 2023 Full Year Wage A&B data series for railroad workers plus a 75-percent overhead charge. FRA calculates the average hourly wage rate for professional/administrative staff at $89.13 per hour, for maintenance of way/structures employees at $69.79 per hour, and for transportation employees (other than train and engine) at $80.38 per hour.

³ Totals may not add up due to rounding.

Estimated Annual Burden: 22,385.

Estimated Annual Burden Hour Dollar Cost Equivalent: $1,755,460.17.

FRA informs all interested parties that it may not conduct or sponsor, and a respondent is not required to respond to, a collection of information that does not display a currently valid OMB control number.

(Authority: 44 U.S.C. 3501-3520.)

Christopher S. Van Nostrand,
Deputy Chief Counsel.

[FR Doc. 2025-15055 Filed 8-7-25; 8:45 am]

BILLING CODE 4910-06-P